DEPARTMENT OF COMMERCE

Foreign-Trade Zones Board

[S-21-2022]

Approval of Expansion of Subzone 196Al TTI, Inc., Fort Worth, Texas

On February 15, 2022, the Executive Secretary of the Foreign-Trade Zones (FTZ) Board docketed an application submitted by Alliance Corridor, Inc., grantee of FTZ 196, requesting expanded subzone status subject to the existing activation limit of FTZ 196, on behalf of TTI, Inc., in Fort Worth, Texas.

The application was processed in accordance with the FTZ Act and Regulations, including notice in the Federal Register inviting public comment (87 FR 9570-9571, February 22, 2022). The FTZ staff examiner reviewed the application and determined that it meets the criteria for approval.

Pursuant to the authority delegated to the FTZ Board Executive Secretary (15 CFR Sec. 400.36(f)), the application to expand Subzone 196A was approved on May 4, 2022, subject to the FTZ Act and the Board's regulations, including Section 400.13, and further subject to FTZ 196's 2,000-acre activation limit.

Dated: May 4, 2022.
Andrew McGilvray,
Executive Secretary.

[FR Doc. 2022-09918 Filed 5-6-22; 8:45 am]

BILLING CODE 3510-DS-P